DEPARTMENT OF AGRICULTURE

Forest Service

Information Collection; Subsistence Harvest Patterns in Prince William Sound

AGENCY: Forest Service, USDA.

ACTION: Notice; request for comment.

SUMMARY: In accordance with the Paperwork Reduction Act of 1995, the Forest Service is seeking comments from all interested individuals and organizations on the new information collection: Subsistence Harvest Patterns in Prince William Sound.

DATES: Comments must be received in writing on or before September 15, 2008, to be assured of consideration. Comments received after that date will be considered to the extent practicable.

ADDRESSES: Comments concerning this notice should be addressed to Aaron Poe, Glacier Ranger District, Chugach National Forest, Forest Service, USDA, P.O. Box 129, Forest Station Road, Girdwood, AK 99587.

Comments also may be submitted via facsimile to 907-783-2094 or by e-mail to: apoe@fs.fed.us.

The public may inspect comments received at Glacier Ranger District, 145 Forest Station Road, Girdwood, Alaska during normal business hours; 0800-1700 Monday through Friday. Visitors are encouraged to call ahead to 907-783-3242 to facilitate entry to the building.

FOR FURTHER INFORMATION CONTACT: Aaron Poe at (907) 783-3242. Individuals who use TDD may call the Federal Relay Service (FRS) at 1-800-877-8339, 24 hours a day, every day of the year, including holidays.

SUPPLEMENTARY INFORMATION: Title: Subsistence Harvest Patterns in Prince William Sound.

OMB Number: 0596-New.

Type of Request: New.

Abstract: In 1989, Prince William Sound (PWS), the heart of the Chugach National Forest (CNF), was severely impacted by the Exxon Valdez Oil Spill (EVOS). In the aftermath of the spill, Federal and state trustees were awarded criminal and civil restitution funds to help with the recovery (and the evaluation of the recovery) of injured resources and human services, including traditional practices of subsistence harvest, which is still listed as “recovering.” For the current list of injured resources and services, please visit the Exxon Valdez Oil Spill Trustee Council's Web site at http://www.evostc.state.ak.us/Publications/injuredresources.cfm.

The CNF, as the major land-owning Federal trustee in PWS, plays an important role in the recovery process. One area of critical importance to CNF managers, which has received less attention by researchers, is the distribution, behavior, and experience of human users throughout the Sound and the impact of these users on EVOS recovering resources and services. Recreation use is increasing in the Sound, and there is concern that increased competition and rapid growth in commercial and independent recreation may be negatively impacting subsistence activities through direct competition for resources from sport fishers and hunters, but also indirectly by displacing subsistence harvesters from traditional harvest areas.

Understanding the subsistence harvest patterns in the Sound will add critical depth to the few existing PWS human use studies by:

(1) Describing the exact nature of overlap between subsistence and recreation use in Sound,

(2) Helping managers better understand the dynamics around the resulting interactions between these two important user groups, and

(3) Allowing managers to anticipate potential conflicts.

Conflicts between user groups have significant implications for EVOS impacted resources and services. Conflicts can diminish quality of life/experience for both subsistence and recreation groups (each already harmed by the spill) and push harvest and recreation activities into previously unused areas, potentially negatively affecting the 25 impacted and recovering resources.

The results of this survey (funded by EVOS criminal restitution dollars) will provide information on recovery and restoration activities undertaken by both the EVOS trustees and local resource managers relative to current and projected levels of human use. The study provides an excellent opportunity to assess the recovery of the subsistence human service injured and redistributed by the EVOS, as well as how CNF managers can further enhance recovery.

Residents from the four communities of PWS who are subsistence eligible (Chenega, Cordova, Tatitlek, and Whittier) will be consulted through individual household interviews conducted by current community institutions (that is, Tribal or community councils). Respondents will describe harvest practices and any recent changes in such activities due to other users or changes in species availability.

Researchers from the Forest Service, U.S. Department of Agriculture and University of Arizona will collect and analyze the data collected, then compare the data to information on recreation activities to identify the location and timing of potential interactions between subsistence harvesters and recreation users. Forest Service managers will use the resulting analysis to define baseline harvest patterns for the Prince William Sound, giving decision makers insight into the recovery of this important human service (redistributed around the Sound in the aftermath of EVOS). This information will allow managers to mitigate potential conflicts. Further, study results may assist in the identification of potential changing resource harvest dynamics during a time of increasing human use in the Prince William Sound.

Estimate of Annual Burden: 30 minutes.

Type of Respondents: Individuals—(heads of households).

Estimated Annual Number of Respondents: 250.

Estimated Annual Number of Responses per Respondent: One.

Estimated Total Annual Burden on Respondents: 125 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: July 11, 2008.
Gloria Manning,
Associate Deputy Chief.

[FR Doc. E8-16361 Filed 7-16-08; 8:45 am]

BILLING CODE 3410-11-P